DEPARTMENT OF ENERGY

Federal Energy Regulatory Commission

Combined Notice of Filings #1

Take notice that the Commission received the following electric corporate filings:

Docket Numbers: EC14-114-000.

Applicants: Gila River Power LLC, Union Power Partners, L.P., Entegra Power Services LLC, Wayzata Investment Partners LLC, Luminus Management, LLC.

Description: Joint Application for Authorization Under Section 203 of the Federal Power Act Gila River Power LLC, et al.

Filed Date: 7/18/14.

Accession Number: 20140718-5136.

Comments Due: 5 p.m. ET 8/8/14.

Docket Numbers: EC14-68-000; ES14-28-000.

Applicants: Integrys Energy Group, Inc., Balfour Beatty Infrastructure Partners GP Limited, Upper Peninsula Power Company.

Description: Supplement to March 14, 2014 Applications for Authorization under Section(s) 203 and 204 of the Federal Power Act of Upper Peninsula Power Company, et al.

Filed Date: 7/18/14.

Accession Number: 20140718-5137.

Comments Due: 5 p.m. ET 7/28/14.

Take notice that the Commission received the following exempt wholesale generator filings:

Docket Numbers: EG14-78-000.

Applicants: OCI Alamo 4 LLC.

Description: Self-Certification of EWG of OCI Alamo 4 LLC.

Filed Date: 7/21/14.

Accession Number: 20140721-5060.

Comments Due: 5 p.m. ET 8/11/14.

Take notice that the Commission received the following electric rate filings:

Docket Numbers: ER13-1748-002.

Applicants: Southwest Power Pool, Inc.

Description: Order 755 Compliance Filing—Docket ER13-1748 to be effective 3/1/2015.

Filed Date: 7/21/14.

Accession Number: 20140721-5085.

Comments Due: 5 p.m. ET 8/11/14.

Docket Numbers: ER14-1386-001.

Applicants: California Independent System Operator Corporation.

Description: 2014-07-21_EIMCompliance to be effective 9/23/2014.

Filed Date: 7/21/14.

Accession Number: 20140721-5088.

Comments Due: 5 p.m. ET 8/11/14.

Docket Numbers: ER14-2305-001.

Applicants: PJM Interconnection, L.L.C.

Description: Errata Filing to Service Agreement No. 3318; Queue No. X3-075 to be effective 6/4/2014.

Filed Date: 7/21/14.

Accession Number: 20140721-5000.

Comments Due: 5 p.m. ET 8/11/14.

Docket Numbers: ER14-2420-000.

Applicants: RE Columbia, LLC.

Description: Supplement to Baseline Filing—Shared Facilities Agr and Co-Tenancy Agr to be effective N/A.

Filed Date: 7/18/14.

Accession Number: 20140718-5076.

Comments Due: 5 p.m. ET 8/8/14.

Docket Numbers: ER14-2466-000.

Applicants: RE Camelot LLC.

Description: Baseline Filing—Market-Based Rate Tariff to be effective 9/7/2014.

Filed Date: 7/18/14.

Accession Number: 20140718-5111.

Comments Due: 5 p.m. ET 8/8/14.

Docket Numbers: ER14-2467-000.

Applicants: Southern California Edison Company.

Description: Notices of Cancellation SGIA and Distribution Service Agmt with CAL SP VII, LLC to be effective 6/26/2014.

Filed Date: 7/21/14.

Accession Number: 20140721-5001.

Comments Due: 5 p.m. ET 8/11/14.

Docket Numbers: ER14-2468-000.

Applicants: NorthWestern Corporation.

Description: OATT Order No. 792 Compliance Filing (South Dakota) to be effective 7/22/2014.

Filed Date: 7/21/14.

Accession Number: 20140721-5026.

Comments Due: 5 p.m. ET 8/11/14.

Docket Numbers: ER14-2469-000.

Applicants: NorthWestern Corporation.

Description: OATT Order No. 792 Compliance Filing (Montana) to be effective 7/22/2014. 80.

Filed Date: 7/21/14.

Accession Number: 20140721-5029.

Comments Due: 5 p.m. ET 8/11/14.

Docket Numbers: ER14-2470-000.

Applicants: Duke Energy Progress, Inc.

Description: PEMC RS 172 2nd Amendment Clean up to be effective 12/27/2013.

Filed Date: 7/21/14.

Accession Number: 20140721-5047.

Comments Due: 5 p.m. ET 8/11/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 21, 2014.
Nathaniel J. Davis, Sr.,
Deputy Secretary.

[FR Doc. 2014-17830 Filed 7-29-14; 8:45 am]

BILLING CODE 6717-01-P